DEPARTMENT OF JUSTICE

Antitrust Division

Notice Pursuant to the National Cooperative Research and Production Act of 1993—Power Tool Institute Table Saw Guarding Joint Venture Project

Notice is hereby given that, on november 2, 2006, pursuant to Section 6(a) of the national Cooperative Research and Production Act of 1993, 15 U.S.C. 4301 et seq. (“the Act”), Power Tool Institute Table Saw Guarding Joint Venture Project has filed written notifications simultaneously with the Attorney General and the Federal Trade Commission disclosing (1) The identities of the parties to the venture and (2) the nature and objectives of the venture. The notifications were filed for the purpose of invoking the Act's provisions limiting the recovery of antitrust plaintiffs to actual damages under specified circumstances.

Pursuant to Section 6(b) of the Act, the identities of the parties to the venture are: The Black & Decker Corp., Towson, MD; Makita USA, Inc., La Mirada, CA; Robert Bosch Tool Corporation, mount Prospect, IL; and Techtronic Industries—North America, Anderson, SC. The general area of Power Tool Institute Table Saw Guarding Joint Venture Project's planned activity is the evaluation, investigation, research and/or development of mechanical blade guarding systems that are technically viable for table saws and provide improved and consistent safety performance.

Patricia A. Brink,
Deputy Director of Operations, Antitrust Division.

[FR Doc. 06-9644 Filed 12-11-06; 8:45 am]

BILLING CODE 4410-11-M